DEPARTMENT OF HOMELAND SECURITY

Federal Emergency Management Agency

Agency Information Collection Activities: Submission for OMB Review; Comment Request

AGENCY: Federal Emergency Management Agency, Emergency Preparedness and Response Directorate, Homeland Security.

ACTION: Notice and request for comments.

SUMMARY: The Federal Emergency Management Agency has submitted the following proposed collection of information to the Office of Management and Budget for review and clearance in accordance with the requirements of the Paperwork Reduction Act of 1995 (44 U.S.C. 3507).

Title: Individual and Family Grant (IFG) Program and Individuals and Households Program (IHP)-Other Needs Assistance (ONA).

Type of Information Collection: Revision of a currently approved collection.

OMB Number: 1660-0018.

Abstract: The Individual and Family Grant (IFG) and Individuals and Households Program (IHP) regulations, 44 CFR 206.131 and 206.119, is intended to provide funds to individuals and families to permit them to meet disaster-related expenses or serious needs for which assistance from other means is either unavailable or inadequate. Meeting these needed expenses as expeditiously as possible will require States to make an early commitment of personnel and resources. The collection of information is a series of forms and reports, which assist regional staff and headquarters staff in monitoring compliance, consistency and uniformity in delivery to disaster applicants, and complying with federal requirements.

Affected Public: State, Local, or Tribal Government.

Number of Respondents: 7362.

Estimated Time per Respondent: FEMA Form 76-27, 15 minutes; FEMA Form 76-28, 5 minutes; FEMA Form 76-29, 30 minutes; FEMA Form 76-32, 30 minutes; FEMA Form 76-34, 240 minutes; FEMA Form 76-38, 120 minutes.

Estimated Total Annual Burden Hours: 814 hours.

Frequency of Response: On occasion, weekly, and monthly.

Comments: Interested persons are invited to submit written comments on the proposed information collection to the Desk Officer for the Federal Emergency Management Agency, Emergency Preparedness and Response Directorate, Department of Homeland Security, Office of Information and Regulatory Affairs, Office of Management and Budget, Washington, DC 20503 within 30 days of the date of this notice.

FOR FURTHER INFORMATION CONTACT: Requests for additional information or copies of the information collection should be made to Muriel B. Anderson, Chief, Records Management Branch, Information Resources Management Division, Information Technology Services Directorate, Federal Emergency Management Agency, Emergency Preparedness and Response Directorate, Department of Homeland Security, 500 C Street, SW, Room 316, Washington, DC 20472, facsimile number (202) 646-3347, or e-mail address InformationCollections@fema.gov.

Dated: April 22, 2003.
Edward W. Kernan,
Director, Information Resources Management Division, Information Technology Services Directorate.

[FR Doc. 03-10481 Filed 4-28-03; 8:45 am]

BILLING CODE 6718-01-P